DEPARTMENT OF HEALTH AND HUMAN SERVICES

Administration for Children and Families

Proposed Information Collection Activity; Immigration Legal Services for Afghan Arrivals—Eligible Afghan Arrivals Intake Form and Intake Interview (New Collection)

AGENCY: Office of Refugee Resettlement, Administration for Children and Families, U.S. Department of Health and Human Services.

ACTION: Request for public comments.

SUMMARY: The Office of Refugee Resettlement (ORR), Administration for Children and Families (ACF), U.S. Department of Health and Human Services (HHS), is proposing to collect data from Eligible Afghan Arrivals (EAAs) in need of direct legal services through Immigration Legal Services for Afghan Arrivals (ILSAA) to determine eligibility.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: In August 2021, Operation Allies Welcome (OAW) was established at President Biden's direction to implement coordinated efforts across the federal government to support vulnerable Afghans, including those who worked alongside the U.S. in Afghanistan (OAW, Homeland Security (https://www.dhs.gov/allieswelcome)). Under the Afghanistan Supplemental Appropriations Act, 2022, and Additional Afghanistan Supplemental Appropriations Act, 2022, Congress authorized ORR to provide resettlement assistance and other benefits available to refugees to specific Afghan populations in response to their emergency evacuation and resettlement. ILSAA was established to provide immigration legal services to EAAs. The ILSAA EAA Intake Form and Intake Interview are designed to gather information about EAAs who are interested in receiving legal services through ILSAA. ILSAA staff will review the EAA's information to determine whether they meet the qualifications to receive legal services through ILSAA. This will be done on a rolling basis as EAAs seek legal services through ILSAA.

Respondents: OAW Afghan Populations.

Annual Burden Estimates
Instrument | Annual number of respondents | Total number of responses per respondent | Average burden hours per response | Annual burden hours
Eligible Afghan Arrival (EAA) Intake Form | 2,700 | 1 | 0.08 | 216
Eligible Afghan Arrival (EAA) Intake Interview | 2,700 | 1 | 0.75 | 2,025

Estimated Total Annual Burden Hours: 2,241.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Division C, Title III, Public Law 117-43,135 Stat. 374; Division B, Title III, Public Law 117-70, 1102 Stat. 4.

Mary B. Jones,
ACF/OPRE Certifying Officer.

[FR Doc. 2023-28660 Filed 12-27-23; 8:45 am]

BILLING CODE 4184-89-P